DEPARTMENT OF TRANSPORTATION

Pipeline and Hazardous Materials Safety Administration

[Docket No. PHMSA-2021-0003]

Pipeline Safety: Information Collection Activities

AGENCY: Pipeline and Hazardous Materials Safety Administration (PHMSA), DOT.

ACTION: Notice and request for comments.

SUMMARY: In compliance with the Paperwork Reduction Act of 1995 (44 U.S.C. 3501 et seq.), this notice announces that the information collection requests (ICR) summarized below are being forwarded to the Office of Management and Budget (OMB) for review and comments. A Federal Register notice soliciting comments on the following information collections with a 60-day comment period was published on February 16, 2021, (86 FR 9568).

DATES: Comments must be submitted on or before June 24, 2021.

Privacy Act Statement: DOT may solicit comments from the public regarding certain general notices. DOT posts these comments, without edit, including any personal information the commenter provides, to www.regulations.gov, as described in the system of records notice (DOT/ALL-14 FDMS), which can be reviewed at www.dot.gov/privacy.

Confidential Business Information: Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Pursuant to 49 CFR 190.343, you may ask PHMSA to give confidential treatment to information you give to the Agency by taking the following steps: (1) Mark each page of the original document submission containing CBI as “Confidential”; (2) send PHMSA, along with the original document, a second copy of the original document with the CBI deleted; and (3) explain why the information you are submitting is CBI. Unless you are notified otherwise, PHMSA will treat such marked submissions as confidential under the FOIA, and they will not be placed in the public docket of this notice. Submissions containing CBI should be sent to Angela Hill, DOT, PHMSA, 1200 New Jersey Avenue SE, PHP-30, Washington, DC 20590-0001. Any commentary PHMSA receives that is not specifically designated as CBI will be placed in the public docket for this matter.

FOR FURTHER INFORMATION CONTACT: Angela Hill by telephone at 202/680-2034 or by email at Angela.Hill@dot.gov.

SUPPLEMENTARY INFORMATION:

I. Background

On February 16, 2021, PHMSA published a notice in the Federal Register soliciting comments on several information collections that are due to expire in 2021 unless they are renewed by OMB.

During the 60-day comment period, PHMSA received one comment from the National Association of Pipeline Safety Representatives (NAPSR) in support of PHMSA's decision to request a renewal, without change, for each of the information collections summarized below.

II. Summary of Impacted Collection

Section 1320.8(d), Title 5, Code of Federal Regulations, requires PHMSA to provide interested members of the public and affected agencies an opportunity to comment on information collection and recordkeeping requests. This notice identifies the information collection requests that PHMSA will submit to OMB for renewal.

The following information is provided for each information collection: (1) Title of the information collection; (2) OMB control number; (3) Current expiration date; (4) Type of request; (5) Abstract of the information collection activity; (6) Description of affected public; (7) Estimate of total annual reporting and recordkeeping burden; and (8) Frequency of collection.

PHMSA will request a three-year term of approval for each information collection activity. PHMSA requests comments on the following information collections:

1. Title: Post-Accident Drug Testing for Pipeline Operators.

OMB Control Number: 2137-0632.

Current Expiration Date: 6/30/2021.

Type of Request: Renewal of a currently approved information collection.

Abstract: Pursuant to 49 CFR 199.227, operators are required to maintain records of its alcohol misuse prevention program. The post-accident drug testing for pipeline operators information collection pertains specifically to 49 CFR 199.227(b)(4), which requires operators to maintain records of decisions not to administer post-accident employee alcohol tests for a minimum of three years. Operators must make those records available to the Secretary of Transportation upon request.

Affected Public: Operators of PHMSA-regulated pipelines.

Annual Reporting and Recordkeeping Burden:

Total Annual Responses: 609.

Total Annual Burden Hours: 1,218.

Frequency of Collection: On occasion.

2. Title: Customer-Owned Service Lines.

OMB Control Number: 2137-0594.

Current Expiration Date: 8/31/2021.

Type of Request: Renewal of a currently approved information collection.

Abstract: Pursuant to 49 CFR 192.16, operators of gas service lines who do not maintain their customers' buried piping between service lines and building walls or gas utilization equipment are required to send written notices to their customers prescribing the proper maintenance of these gas lines and of the potential hazards of not properly maintaining these gas lines. Operators also must maintain records that include a copy of the notice currently in use and evidence that notices were sent to customers within the previous three years. The purpose of the collection is to provide the Office of Pipeline Safety with adequate information about how customer-owned service lines are being maintained to prevent the potential hazards associated with not maintaining the lines. An example of sufficient notification includes a prepared notification with the customer's bill.

Affected Public: State and local governments.

Annual Reporting and Recordkeeping Burden:

Estimated number of responses: 550,000.

Estimated annual burden hours: 9,167.

Frequency of Collection: On occasion.

3. Title: Public Awareness Program.

OMB Control Number: 2137-0622.

Current Expiration Date: 9/30/2021.

Type of Request: Renewal of a currently approved information collection.

Abstract: Pursuant to the Federal Pipeline Safety Regulations in 49 CFR 192.616 and 49 CFR 195.440 each pipeline operator is required to develop and implement a written continuing public education program that follows the guidance provided in the American Petroleum Institute's (API) Recommended Practice (RP) 1162. Upon request, operators must submit their completed programs to PHMSA or, in the case of an intrastate pipeline facility operator, the appropriate state agency. The operator's program documentation and evaluation results must also be available for periodic review by appropriate regulatory agencies. The purpose of the collection is to educate the public, appropriate government organizations, and persons engaged in excavation activities on the use of a one-call notification system, possible hazards associated with unintentional releases, physical indications that a release may have occurred, and steps that should be taken for public safety in the event of a release and procedures for reporting releases.

Affected Public: Operators of natural gas and hazardous liquid pipelines.

Estimated number of responses: 45,000.

Estimated annual burden hours: 517,500 hours.

Frequency of collection: Annual.

4. Title: Recordkeeping Requirements for Liquefied Natural Gas Facilities.

OMB Control Number: 2137-0048.

Current Expiration Date: 09/30/2021.

Type of Request: Renewal with no change of a currently approved information collection.

Abstract: Pursuant to the Federal Pipeline Safety Regulations, liquefied natural gas facility owners and operators are required to maintain various records, make reports, and provide information regarding their liquefied natural gas facilities to the Secretary of Transportation at the Secretary's request.

Affected Public: Operators and owners of liquefied natural gas facilities.

Annual Reporting and Recordkeeping Burden:

Estimated number of responses: 40,400.

Estimated annual burden hours: 12,120.

Frequency of Collection: On occasion.

5. Title: Qualification of Pipeline Safety Training.

OMB Control Number: 2137-0600.

Current Expiration Date: 10/31/2021.

Type of Request: Renewal with no change of a currently approved information collection.

Abstract: The Federal Pipeline Safety Regulations require that all individuals responsible for the operation and maintenance of pipeline facilities to be properly qualified to safely perform their tasks. Chapter 49 CFR 192.807 requires each operator to maintain records that demonstrate compliance with the mandated qualification criteria. Operators are required to maintain records demonstrating compliance and provide them to PHMSA upon request.

Affected Public: Operators of pipeline facilities.

Annual Reporting and Recordkeeping Burden:

Estimated number of responses: 29,167.

Estimated annual burden hours: 7,292.

Frequency of collection: On occasion.

6. Title: Periodic Underwater Inspection and Notification of Abandoned Underwater Pipelines.

OMB Control Number: 2137-0618.

Current Expiration Date: 10/31/2021.

Type of Request: Renewal with no change of a currently approved information collection.

Abstract: The Federal Pipeline Safety Regulations at 49 CFR 192.612 and 195.413 require operators of pipelines in the Gulf of Mexico and its inlets in waters less than 15 feet (4.6 meters) deep to conduct appropriate periodic underwater inspections to determine whether the pipelines are exposed or pose a hazard to navigation. If an operator discovers that its underwater pipeline is exposed or poses a hazard to navigation, among other remedial actions, the operator must contact the National Response Center by telephone within 24 hours of discovery and report the location of the exposed pipeline or hazardous pipeline.

PHMSA's regulations for reporting the abandonment of underwater pipelines can be found at 49 CFR 192.727 and 49 CFR 195.59. These provisions contain certain requirements for disconnecting and purging abandoned pipelines and require operators to notify PHMSA of each abandoned offshore pipeline facility and each abandoned onshore pipeline facility that crosses over, under, or through a commercially navigable waterway.

Affected Public: Operators of pipeline facilities (except master meter operators).

Annual Reporting and Recordkeeping Burden:

Estimated number of responses: 92.

Estimated annual burden hours: 1,372.

Frequency of collection: On occasion.

7. Title: Recordkeeping for Underground Natural Gas Storage Facilities.

OMB Control Number: 2137-0634.

Current Expiration Date: 10/31/2021.

Type of Request: Renewal of a currently approved information collection.

Abstract: The Federal Pipeline Safety Regulations at 49 CFR 192.12 requires operators of underground natural gas storage facilities to maintain documentation and provide information to the Secretary of Transportation at the Secretary's request. Examples of the required records include operations and maintenance procedures, results of required tests, records of inspections and repairs, and notifications to the public.

Affected Public: Operators of underground natural gas storage facilities.

Annual Reporting and Recordkeeping Burden:

Estimated number of responses: 136.

Estimated annual burden hours: 220.

Frequency of Collection: On occasion.

Comments are invited on:

(a) The need for the renewal and revision of these collections of information for the proper performance of the functions of the Agency, including whether the information will have practical utility;

(b) The accuracy of the Agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Authority: The Paperwork Reduction Act of 1995; 44 U.S.C. Chapter 35, as amended; and 49 CFR 1.48.

Issued in Washington, DC, on May 20, 2021, under authority delegated in 49 CFR 1.97.
John A. Gale,
Director, Standards and Rulemaking Division.

[FR Doc. 2021-11040 Filed 5-24-21; 8:45 am]

BILLING CODE 4910-60-P